DEPARTMENT OF ENERGY

Federal Energy Regulatory Commission

[Docket No. RP04-201-003]

ANR Pipeline Company; Notice of Compliance Filing

October 18, 2004.

Take notice that on October 12, 2004, ANR Pipeline Company (ANR) tendered for filing as part of its FERC Gas Tariff, Second Revised Volume No. 1, the following pro forma tariff sheets:

Seventeenth Revised Sheet No. 2,

Sixth Revised Sheet No. 92,

Fifth Revised Sheet No. 193,

Fourth Revised Sheet No. 194.

ANR states that the filing is being made in compliance with the Commission's order issued on July 13, 2004, in the above-captioned docket.

ANR states that the pro forma tariff sheets implement a fuel tracker with a true-up mechanism pending the Commission's action on pending rehearing requests, as further directed in the Commission's October 8, 2004 order.

Any person desiring to protest this filing must file in accordance with Rule 211 of the Commission's Rules of Practice and Procedure (18 CFR 385.211). Protests to this filing will be considered by the Commission in determining the appropriate action to be taken, but will not serve to make protestants parties to the proceeding. Such protests must be filed in accordance with the provisions of Section 154.210 of the Commission's regulations (18 CFR 154.210). Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E4-2832 Filed 10-22-04; 8:45 am]

BILLING CODE 6717-01-P